DEPARTMENT OF AGRICULTURE

Forest Service

36 CFR Part 219

RIN 0596-AD02

National Forest System Land Management Planning; Correction

AGENCY: Forest Service, USDA.

ACTION: Correcting amendments.

SUMMARY: The Department of Agriculture (USDA) published a National Forest System land management planning rule in the Federal Register, on April 9, 2012, (77 FR 21162).

Errors have been found in the rule with respect to punctuation, hyphenation, and wording. The errors have been corrected in the rule published today.

DATES: These corrections are effective July 27, 2012.

ADDRESSES: Written inquiries about this correction document may be sent to the Director, Ecosystem Management Coordination Staff, USDA Forest Service, 1400 Independence Ave. SW., Mailstop Code 1104, Washington, DC 20250-1104.

FOR FURTHER INFORMATION CONTACT: Ecosystem Management Coordination staff's Planning Specialist Regis Terney at 202-205-1552.

SUPPLEMENTARY INFORMATION:

Background

This document makes technical corrections to Title 36, Code of Federal Regulations, Part 219—Planning, Subpart A—National Forest System Land Management Planning (36 CFR part 219, subpart A). One technical correction at 36 CFR 219.11(d)(4) concerns the wording describing the maximum size for openings that may be cut in one harvest operation. The wording should have said “maximum size for openings” instead of “maximize size for openings.”

At 36 CFR 219.17(b)(2) and (b)(3), the reference to “36 CFR part 209” should be “36 CFR part 219” and reference to “parts 200 to 209” should be “parts 200 to 299” and, therefore, technical corrections have been made to Title 36, Code of Federal Regulations, Part 219—Planning, Subpart A—National Forest System Land Management Planning (36 CFR part 219, subpart A), § 219.17(b)(2) and (b)(3). The correct reference in section 219.17(b)(2) and (3) is ” (36 CFR Part 219, published at 36 CFR Parts 200 to 299, revised as of July 1, 2010).”

In addition, corrections have been made to punctuation, hyphenation, and wording errors. The punctuation, hyphenation, and word corrections do not change the content of the rule. These specific changes are as follows:

In § 219.4, paragraph (a), the acronym “NEPA” is spelled out; in paragraph (a)(2), the term “Government” is capitalized; and in paragraph (a)(3)(b)(2)(iii), the word “to” has been added.

In § 219.6 paragraph (a)(1), the word “contained” has been removed from the first sentence.

In § 219.7 paragraph (c)(2)(viii), the word “which” has been changed to “that.”

In § 219.11 paragraph (d)(4) “maximize” has been changed to “maximum” and in paragraph (d)(4)(ii) “60-days” has been hyphenated.

In § 219.19 Definitions, changes have been made in definitions as follows: at “Collaboration or collaborative process” the comma has been removed from “October, 2007;” at “Connectivity” the term “long distance” has been hyphenated; at “Cultural Services” a comma was added after the term “experiences;” and at “Source water protection areas” “the” was added to “Environmental Protection Agency.”

Need for Correction

As published, the final regulations contain errors which may be misleading and, therefore, need to be changed. Other changes are to make the document grammatically correct.

List of Subjects in 36 CFR Part 219

Administrative practice and procedure, Environmental impact statements, Indians, Intergovernmental relations, National forests, Reporting and recordkeeping requirements, Science and technology.

Accordingly, 36 CFR part 219 is corrected by making the following correcting amendments:

PART 219—PLANNING

1. The authority citation for part 219 continues to read as follows:

Authority: 5 U.S.C. 301; 16 U.S.C. 1604, 1613.

2. In § 219.4 revise paragraph (a) introductory text, and paragraphs (a)(2), and (b)(2)(iii) to read as follows:

§ 219.4 Requirements for public participation.

(a) Providing opportunities for participation. The responsible official shall provide opportunities to the public for participating in the assessment process; developing a plan proposal, including the monitoring program; commenting on the proposal and the disclosure of its environmental impacts in accompanying National Environmental Policy Act (NEPA) documents; and reviewing the results of monitoring information. When developing opportunities for public participation, the responsible official shall take into account the discrete and diverse roles, jurisdictions, responsibilities, and skills of interested and affected parties; the accessibility of the process, opportunities, and information; and the cost, time, and available staffing. The responsible official should be proactive and use contemporary tools, such as the Internet, to engage the public, and should share information in an open way with interested parties. Subject to the notification requirements in § 219.16, the responsible official has the discretion to determine the scope, methods, forum, and timing of those opportunities. The Forest Service retains decisionmaking authority and responsibility for all decisions throughout the process.

* * * * *

(2) Consultation with federally recognized Indian Tribes and Alaska Native Corporations. The Department recognizes the Federal Government has certain trust responsibilities and a unique legal relationship with federally recognized Indian Tribes. The responsible official shall honor the government-to-government relationship between federally recognized Indian Tribes and the Federal Government. The responsible official shall provide to federally recognized Indian Tribes and Alaska Native Corporations the opportunity to undertake consultation consistent with Executive Order 13175 of November 6, 2000, and 25 U.S.C. 450 note.

* * * * *

(b) * * *

(2) * * *

(iii) Opportunities for the plan to address the impacts identified or to contribute to joint objectives; and

* * * * *

3. In § 219.6 revise paragraph (a)(1) to read as follows:

§ 219.6 Assessment.

* * * * *

(a) * * *

(1) Identify and consider relevant existing information in governmental or non-governmental assessments, plans, monitoring reports, studies, and other sources of relevant information. Such sources of information may include State forest assessments and strategies, the Resources Planning Act assessment, ecoregional assessments, non-governmental reports, State comprehensive outdoor recreation plans, community wildfire protection plans, public transportation plans, State wildlife data and action plans, and relevant Agency or interagency reports, resource plans or assessments. Relevant private information, including relevant land management plans and local knowledge, will be considered if publicly available or voluntarily provided.

* * * * *

4. In § 219.7 revise paragraph (c)(2)(viii) to read as follows:

§ 219.7 New plan development or plan revision.

* * * * *

(c) * * *

(2) * * *

(viii) Identify the suitability of areas for the appropriate integration of resource management and uses, with respect to the requirements for plan components of §§ 219.8 through 219.11, including identifying lands that are not suitable for timber production (§ 219.11).

* * * * *

5. In § 219.11 revise paragraph (d)(4) introductory text, and paragraph (d)(4)(ii) to read as follows:

§ 219.11 Timber requirements based on the NFMA.

* * * * *

(d) * * *

(4) Where plan components will allow clearcutting, seed tree cutting, shelterwood cutting, or other cuts designed to regenerate an even-aged stand of timber, the plan must include standards limiting the maximum size for openings that may be cut in one harvest operation, according to geographic areas, forest types, or other suitable classifications.

* * * * *

(ii) Plan components may allow for size limits exceeding those established in paragraphs (d)(4) introductory text and (d)(4)(i) of this section on an individual timber sale basis after “60-days” public notice and review by the regional forester.

* * * * *

6. In § 219.17 revise paragraphs (b)(2) and (b)(3) to read as follows:

§ 219.17 Effective dates and transition.

* * * * *

(b) * * *

(2) Initiating plan amendments. All plan amendments initiated after May 9, 2012, are subject to the objection process in subpart B of this part. With respect to plans approved or revised under a prior planning regulation, including the transition provisions of the reinstated 2000 rule (36 CFR part 219, published at 36 CFR parts 200 to 299, revised as of July 1, 2010), plan amendments may be initiated under the provisions of the prior planning regulation for 3 years after May 9, 2012, and may be completed and approved under those provisions (except for the optional appeal procedures of the prior planning regulation); or may be initiated, completed, and approved under the requirements of this part. After the 3-year transition period, all plan amendments must be initiated, completed, and approved under the requirements of this part.

(3) Plan development, plan amendments, or plan revisions initiated before this part. For plan development, plan amendments, or plan revisions that were initiated before May 9, 2012, the responsible official may complete and approve the plan, plan amendment, or plan revision in conformance with the provisions of the prior planning regulation, including its transition provisions (36 CFR part 219, published at 36 CFR parts 200 to 299, revised as of July 1, 2010), or may conform the plan, plan amendment, or plan revision to the requirements of this part. If the responsible official chooses to complete an ongoing planning process under the provisions of the prior planning regulation, but chooses to allow for an objection rather than an administrative appeal, the objection process in subpart B of this part shall apply. When the responsible official chooses to conform an ongoing planning process to this part, public notice must be made (§ 219.16(a)(5)). An objection process may be chosen only if the public is provided the opportunity to comment on a proposed plan, plan amendment, or plan revision, and associated environmental analysis.

* * * * *

7. In § 219.19 revise the definitions of Collaboration or collaborative process and Connectivity, revise paragraph (4) of the definition of Ecosystem services, and revise the definition of Source water protection areas to read as follows:

§ 219.19 Definitions.

* * * * *

Collaboration or collaborative process. A structured manner in which a collection of people with diverse interests share knowledge, ideas, and resources while working together in an inclusive and cooperative manner toward a common purpose. Collaboration, in the context of this part, falls within the full spectrum of public engagement described in the Council on Environmental Quality's publication of October 2007: Collaboration in NEPA—A Handbook for NEPA Practitioners.

Connectivity. Ecological conditions that exist at several spatial and temporal scales that provide landscape linkages that permit the exchange of flow, sediments, and nutrients; the daily and seasonal movements of animals within home ranges; the dispersal and genetic interchange between populations; and the long-distance range shifts of species, such as in response to climate change.

* * * * *

Ecosystem services. * * *

(4) Cultural services, such as educational, aesthetic, spiritual and cultural heritage values, recreational experiences, and tourism opportunities.

* * * * *

Source water protection areas. The area delineated by a State or Tribe for a public water system (PWS) or including numerous PWSs, whether the source is ground water or surface water or both, as part of a State or tribal source water assessment and protection program (SWAP) approved by the Environmental Protection Agency under section 1453 of the Safe Drinking Water Act (42 U.S.C. 300h-3(e)).

* * * * *

Dated: July 19, 2012.
Thomas L. Tidwell,
Chief, Forest Service.

[FR Doc. 2012-18322 Filed 7-26-12; 8:45 am]

BILLING CODE 3410-11-P